DEPARTMENT OF THE INTERIOR

Bureau of Land Management

[CACA 048728, LLCAD06000, L51010000.LVRWB09B2510.FX0000]

Notice of Availability of the Record of Decision for the McCoy Solar Energy Project, Riverside County, California

AGENCY: Bureau of Land Management, Interior.

ACTION: Notice of availability.

SUMMARY: The Bureau of Land Management (BLM) announces the availability of the Record of Decision (ROD) to grant a Right-of-Way (ROW) and amend the California Desert Conservation Area Plan (CDCA Plan) for the McCoy Solar Energy Project (MSEP), a photovoltaic solar electricity generation project. The Secretary of the Interior approved the ROD on March 13, 2013, which constitutes the final decision of the Department.

ADDRESSES: Copies of the ROD/Approved Amendment to the CDCA Plan are available upon request from the Field Manager, Palm Springs/South Coast Field Office 1201 Bird Center Drive, Palm Springs, CA 92262, and the California Desert District Office, 22835 Calle San Juan de Los Lagos, Moreno Valley, CA 92553-9046, or via the Internet at the following Web site: http://www.blm.gov/ca/st/en/fo/palmsprings/Solar_Projects/McCoy.html.

FOR FURTHER INFORMATION CONTACT: Jeffery Childers; telephone, 951-697-5308; mail, BLM California Desert District Office, 22835 Calle San Juan de Los Lagos, Moreno Valley, CA 92553-9046; or email jchilders@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: McCoy Solar, LLC, filed a ROW application for the MSEP. The project as originally proposed would have consisted of an up to 750-megawatt photovoltaic solar energy generation facility and necessary ancillary facilities. The proposed project included a 4,437-acre solar plant site and a 14.5-mile generation tie line (Eastern Route), access roads, a distribution line, and a 2-acre switch yard (total linear disturbance is 146 acres, for a total project area of 4,583 acres) to be located adjacent to and connect into Southern California Edison's Colorado River Substation. The proposed project would require approximately 477 acres of private lands. The project site is 13 miles northwest of Blythe, California and 32 miles east of Desert Center.

The Preferred Alternative identified in the Final Environmental Impact Statement (EIS) is the proposed 4,437-acre solar plant site, a reconfigured 12.5-mile gen-tie and access road (Central Route), and the switch yard interconnection (total linear disturbance of 136 acres) to the Colorado River Substation.

The project site is in the California Desert District within the planning boundary of the CDCA Plan, which is the applicable resource management plan (RMP) for the project site and surrounding areas. The CDCA Plan, while recognizing the potential compatibility of solar energy generation facilities with other uses on public lands, requires that all sites associated with power generation or transmission not already identified in the Plan be considered through the BLM's land use plan amendment process. As a result, prior to approval of a ROW grant for the MSEP, the BLM must amend the CDCA Plan to allow the solar energy generating project on that site. The approved Amendment to the CDCA Plan specifically revises the CDCA Plan to allow for the development of the MSEP and ancillary facilities on land managed by the BLM. With respect to the plan amendment, the publication of the Notice of Availability of the Proposed Plan Amendment/Final EIS for the MSEP on December 21, 2012, initiated a 30-day protest period for the proposed amendment to the CDCA Plan which concluded on January 22, 2013. The BLM received two timely and complete written protests which were resolved prior to the execution of the ROD. Their resolution is summarized in the Director's Protest Summary Report attached to the ROD. The proposed amendment to the CDCA Plan was not modified as a result of the protests received or their resolution. Simultaneously with the protest period, the Governor of California conducted an expedited 30-day consistency review of the proposed CDCA Plan amendment to identify any inconsistencies with State or local plans, policies or programs; no inconsistencies were identified by the Governor's Office.

Because this decision is approved by the Secretary of the Interior, it is not subject to administrative appeal (43 CFR 4.410(a)(3)).

Authority: 40 CFR 1506.6.

Jamie Connell,
Acting Deputy Director, Bureau of Land Management.

[FR Doc. 2013-06670 Filed 3-21-13; 8:45 am]

BILLING CODE 4310-40-P